GENERAL SERVICES ADMINISTRATION

[FMR Bulletin 2006-B5]

Federal Management Regulation; Real Property Asset Management Guiding Principles

AGENCY: General Services Administration.

ACTION: Notice; Bulletin.

SUMMARY: FMR Bulletin 2006-B5 rescinds and supersedes GSA Bulletin FPMR D-240, Public Buildings and Space, dated October 2, 1996. This Bulletin introduces new guiding principles to manage and improve real property performance in support of Executive Order (EO) 13327.

EFFECTIVE DATE: June 16, 2006.

FOR FURTHER INFORMATION CONTACT: For clarification of content, contact Stanley C. Langfeld, Director, Regulations Management Division (MPR), General Services Administration, Washington, DC 20405; stanley.langfeld@gsa.gov, (202) 501-1737. Please cite FMR Bulletin 2006-B5.

SUPPLEMENTARY INFORMATION: The guiding principles are strategic objectives and goals designed for Federal agencies to adopt into their asset management programs. Agencies are encouraged to implement these principles to enhance real property performance. The guiding principles are as follows:

1. Support agency missions and strategic goals.

2. Use public and commercial benchmarks and best practices.

3. Employ life-cycle cost benefit analyses.

4. Promote full and appropriate utilization.

5. Dispose of unneeded assets.

6. Provide appropriate levels of investment.

7. Accurately inventory and describe all assets.

8. Employ balanced performance measures.

9. Advance customer satisfaction.

10. Provide for safe, secure and healthy workplaces.

Dated: June 1, 2006.
John G. Sindelar,
Acting Associate Administrator, Office of Governmentwide Policy.

BILLING CODE 6820-34-P

[FR Doc. 06-5423 Filed 6-15-06; 8:45 am]

BILLING CODE 6820-34-C